DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for a project between the Town of Dyer and the City of Hammond, both located in Lake County, Indiana. The purpose of this notice is to announce publicly the environmental decisions by FTA on the subject project and to activate the limitation on any claims that may challenge this final environmental action.

DATES: By this notice, FTA is advising the public of final agency actions subject to Section 139(l) of Title 23, United States Code (U.S.C.). A claim seeking judicial review of FTA actions announced herein for the listed public transportation projects will be barred unless the claim is filed on or before August 20, 2018.

FOR FURTHER INFORMATION CONTACT: Nancy-Ellen Zusman, Assistant Chief Counsel, Office of Chief Counsel, (312) 353-2577 or Alan Tabachnick, Environmental Protection Specialist, Office of Environmental Programs, (202) 366-8541. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The actions on the project, as well as the laws under which such actions were taken, are described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [16 U.S.C. 470f], and the Clean Air Act [42 U.S.C. 7401-7671q]. This notice does not, however, alter or extend the limitation period for challenges of project decisions subject to previous notices published in the Federal Register. The project and action that is the subject of this notice follow:

Project name and location: West Lake Corridor Project, Dyer and Hammond, Indiana. Project Sponsor: Northern Indiana Commuter Transportation District (NICTD). Project description: The project is an approximately 9-mile southern extension of the existing NICTD South Shore Line (SSL) commuter rail service between the Town of Dyer and the City of Hammond, in Lake County, Indiana. The project would end just east of the Indiana-Illinois state line, where trains would connect with the SSL to travel north to Chicago. The West Lake Corridor Project includes four commuter rail stations and a maintenance facility/layover yard. Final agency actions: Section 4(f) determination, dated March 1, 2018; Section 106 finding of adverse effect dated September 6, 2017; A Section 106 Memorandum of Agreement, dated December 12, 2017; project-level air quality conformity, and a Record of Decision, dated March 1, 2018. Supporting documentation: Combined Final Environmental Impact Statement/Record of Decision/Section 4(f) Evaluation, dated March 1, 2018.

Elizabeth S. Riklin,
Deputy Associate Administrator for Planning and Environment.

[FR Doc. 2018-05763 Filed 3-21-18; 8:45 am]

BILLING CODE P